DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer at (240) 276-0361.

Project: Mental and Substance Use Disorders Prevalence Study (MDPS) Grant Funded by SAMHSA, Grant Number H79FG000030

SAMHSA is requesting from the Office of Management and Budget (OMB) approval to conduct recruitment activities and clinical interviews with household respondents and non-household facilities and respondents as part of the Mental and Substance Use Disorders Prevalence Study (MDPS) pilot program. Activities conducted will include: A household rostering and mental health screening of household participants and a clinical interview of both household and non-household participants. The information gathered by the clinical interview will be used to determine prevalence estimates of schizophrenia or schizoaffective disorder; bipolar I disorder; major depressive disorder; generalized anxiety disorder; posttraumatic stress disorder (PTSD); obsessive-compulsive disorder; anorexia nervosa; and alcohol, benzodiazepine, opioid, stimulant, and cannabis use disorders among U.S. adults ages 18 to 65 years.

Household Rostering

The household rostering includes inquiries about all adults ages 18 and older residing in the household, to assess eligibility for inclusion in the study, and then selecting up to two adults for the household mental health screening. The total number of household members and numbers of adults and children are first asked, followed by the first name, age and sex of all adult household members, as well as whether any adult in the household has had a serious medical condition. The best time to be interviewed is collected as well. The computerized roster can be completed online, by phone, on paper, or in-person. The target population is adults ages 18-65 residing in U.S. households; it is estimated that 45,000 household rosters will be completed. The primary objective of the household roster is to select up to two age-eligible participants for the mental health screening interview.

Household Mental Health Screening

The household mental health screening interview utilizes the Computerized Adaptive Testing for Mental Health Disorders (CAT-MH) or the World Health Organization's Composite International Diagnostic Interview (CIDI) instruments to assess symptoms related to the mental health and substance use disorders of interest, including schizophrenia or schizoaffective disorder; bipolar I disorder; major depressive disorder; generalized anxiety disorder; posttraumatic stress disorder (PTSD); obsessive-compulsive disorder; anorexia nervosa; and alcohol, benzodiazepine, opioid, stimulant, and cannabis use. The screening instrument also includes questions on treatment, receipt of Social Security Disability Income (SSDI), military experience, and exposure to and impact of COVID-19. The computerized mental health screening can be completed online, by phone, on paper or in-person. The primary objectives of the household mental health screening interview are to assess the symptoms endorsed and determine eligibility and selection for the MDPS pilot program clinical interview.

Clinical Interview

The MDPS pilot program clinical interview includes questions that assess the mental health and substance use disorders using the NetSCID, a computerized version of the Structured Clinical Interview for DSM-V (SCID). This instrument includes questions on symptoms and their duration and frequency for the disorders of interest. Also collected from respondents is demographic information, including sex, gender, age, education and employment status. Hospitalization and treatment history are asked as well as questions to assess exposure to COVID-19 of self or other close family members and the impact on mental health. Up to two adults per household will be selected to complete the clinical interview. Participants from the prisons, jails, homeless shelters and state psychiatric hospitals will complete the clinical interview as well. The computer-assisted personal interview (CAPI) is administered by a trained clinical interviewer, and can be conducted by video conference, such as Zoom or WebEx, phone or in person. Approximately 7,200 clinical interviews will be conducted as part of the MDPS pilot program. The primary objective of the clinical interview is to estimate the prevalence of the disorders of interest, including schizophrenia or schizoaffective disorder; bipolar I disorder; major depressive disorder; generalized anxiety disorder; posttraumatic stress disorder (PTSD); obsessive-compulsive disorder; anorexia nervosa; and alcohol, benzodiazepine, opioid, stimulant, and cannabis use, as well as unmet treatment needs.

Jail Mental Health Screening

The jail mental health screening interview utilizes the CIDI screening instruments to assess symptoms related to the primary mental health and substance use disorders of interest including schizophrenia or schizoaffective disorder; bipolar I disorder; major depressive disorder; generalized anxiety disorder; posttraumatic stress disorder (PTSD); obsessive-compulsive disorder; anorexia nervosa; and alcohol, benzodiazepine, opioid, stimulant, and cannabis use. The screening instrument also includes questions on treatment, receipt of Social Security Disability Income (SSDI), military experience, and exposure to and impact of COVID-19. The computerized mental health screening will be completed in person or by phone. The target population is a convenience sample of incarcerated 18-65-year-old adults, in up to six jails identified by the MDPS co-investigator team. Up to 208 mental health screening interviews will be conducted among incarcerated respondents. Respondents will be provided with a card that includes contact information and asked to contact the project personnel when they are released for inclusion in the household clinical interview sample. The primary objective of the jail mental health screening interview is to determine the feasibility of conducting mental health screening interviews within a jail population, as well as whether they would have been included in the household sample during the data collection period should they not have been incarcerated.

Facility Recruitment

Information packets will be sent to all selected prisons, state psychiatric hospitals, homeless shelters and jails including a letter of invitation, letters of support, an overview of the project and an overview of the data collection process in the facility. Facilities will be contacted by telephone, to answer any questions and provide additional information regarding the MDPS pilot program. Once approval is obtained, a logistics manager will contact the facility to provide instructions on the rostering and selection processes, to schedule the data collection visit, and to determine the appropriate space to conduct the interviews and the number of days and hours per day for data collection. Facilities will be asked to provide a roster (deidentified or identified) of eligible residents within one week of scheduling the data collection visit and again one-to-two weeks prior to the actual data collection visit (note: Data collection can be scheduled up to 4 months in advance). At the time of data collection, facility staff will assist with data collection activities including escorting selected inmates to and from the data collection area.

The primary objective of the MDPS pilot program is to examine methods to estimate the prevalence of specific mental illnesses, particularly adults with psychotic disorders and serious functional impairment, and treatment in both populations to answer two core research questions:

• What is the prevalence of schizophrenia/schizoaffective disorder (lifetime and past year), bipolar I disorder (past year), major depressive disorder (past year), generalized anxiety disorder (past year), posttraumatic stress disorder (past year), obsessive-compulsive disorder (past year), anorexia nervosa (past year), and alcohol, benzodiazepine, opioid, stimulant, and cannabis use disorders (past year) among adults, ages 18-65, in the United States?

• What proportion of adults in the United States with these disorders received treatment in the past year?

In addition to these research questions, the MDPS pilot program will allow for procedural evaluation to:

Identify which set of screening instruments might be best to accurately identify mental and substance use disorders within the U.S. household population;

Understand the best approaches to conducting data collection within non-household settings, to gather information on mental illness and treatment;

Design protocols for collecting clinical interviews from proxy respondents; and

Establish a protocol that can be used at a larger scale to understand the prevalence and burden of specific mental disorders in both non-household and household populations across the United States.

Exhibit 1—Total Estimated Annualized Respondent Burden by Instrument and Facility Recruitment
Activity | Total number of respondents | Number of responses per respondent | Total number of responses | Average hours per response | Average burden hours | Average hourly wage ** | Total cost
Instrument:
Household Rostering | 45,000 | 1 | 45,000 | 0.13 | 5,850 | $19.83 | $116,006
Household contact attempts * | 45,000 | 1 | 45,000 | 0.17 | 7,650 | 19.83 | 151,700
Household Screening | 45,000 | 1 | 45,000 | 0.25 | 11,250 | 19.83 | 223,088
Screening contact attempts * | 45,000 | 1 | 45,000 | 0.17 | 7,650 | 19.83 | 151,700
Clinical Interview (household and non-household) | 7,200 | 1 | 7,200 | 1.40 | 10,080 | 19.83 | 199,886
Clinical Interview contact attempts * | 7,200 | 1 | 7,200 | 0.25 | 1,800 | 19.83 | 35,694
Jail Screening Interview | 208 | 1 | 208 | 0.33 | 69 | 19.83 | 1,369
Jail Clinical Interview | 63 | 1 | 63 | 1.40 | 88 | 19.83 | 1749
Sub-total Interviewing Estimates |  |  |  |  | 44,437 |  | 881,192
Facility Recruitment:
Information package review for facility administrators | 58 | 1 | 58 | 0.75 | 43.5 | 25.09 | 1,091
Initial call with facility staff | 58 | 1 | 58 | 1 | 58 | 25.09 | 1,455
Telephone call with facility staff to explain roster file process | 58 | 1 | 58 | 2 | 116 | 25.09 | 2,910
Facility staff provides roster | 58 | 4 | 232 | 2 | 464 | 25.09 | 11,642
Facility staff coordinates time and location for clinical interview administration | 58 | 4 | 232 | 2 | 464 | 25.09 | 11,642
Sub-total Facility Recruitment Estimates |  |  |  |  | 1,145.5 |  | 28,740
|  |  |  |  | 45,582.5 |  | 909,932
* Contact attempts include the time spent reviewing all follow-up letters and study materials, including the respondent website, interactions with field and telephone interviewers, the consent process including asking questions regarding rights as a participant and receiving responses, and all other exchanges during the recruitment and interviewing processes.
** To compute total estimated annual cost for Interviewing, the total burden hours were multiplied by the average hourly wage for each adult participant, according to a Bureau of Labor Statistics (BLS) chart called “Median usual weekly earnings of full-time wage and salary workers by educational attainment.” (Median usual weekly earnings of full-time wage and salary workers by educational attainment (bls.gov)). We used the median salary for full-time employees over the age of 25 who are high school graduates with no college experience in the 2nd quarter of 2021 ($19.83 per hour). * For the Facility Recruitment, the total average burden assumes an average hourly rate of $25.09 for Community and Social Service Managers, given in the Bureau of Labor Statistic's Occupational Employment Statistics, May 2020.

Written comments and recommendations for the proposed information collection should be sent within 30 days of publication of this notice to www.reginfo.gov/public/do/PRAMain. Find this particular information collection by selecting “Currently under 30-day Review—Open for Public Comments” or by using the search function.

Carlos Graham,
Reports Clearance Officer.

[FR Doc. 2022-06414 Filed 3-25-22; 8:45 am]

BILLING CODE 4162-20-P